DEPARTMENT OF HEALTH AND HUMAN SERVICES

Centers for Disease Control and Prevention

Disease, Disability, and Injury Prevention and Control Special Emphasis Panel (SEP): Initial Review

The meeting announced below concerns Integrating Self-Management Education with Cancer Survivorship Care Planning, SIP 15-001, and Using Cancer Registry Data to Promote Proactive Tobacco Cessation among Adult Cancer Survivors, SIP 15-003, initial review.

SUMMARY: This document corrects a notice that was published in the Federal Register on April 14, 2015 Volume 80, Number 86, Page 19990. The time and date should have read as follows:

DATES: Time and Date: 11:00 a.m.-6:00 p.m., May 12, 2015 (Closed).

FOR FURTHER INFORMATION CONTACT: Brenda Colley Gilbert, Ph.D., M.S.P.H., Director, Extramural Research Program Operations and Services, CDC, 4770 Buford Highway NE., Mailstop F-80, Atlanta, Georgia 30341, Telephone: (770) 488-6295, BJC4@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-12053 Filed 5-18-15; 8:45 am]

BILLING CODE 4163-18-P